DEPARTMENT OF THE INTERIOR

Bureau of Land Management

[LLID9570000.LL14200000.BJ0000]

IDAHO: Filing of Plats of Survey

AGENCY: Bureau of Land Management, Interior.

ACTION: Notice of filing of plats of surveys.

SUMMARY: The Bureau of Land Management (BLM) has officially filed the plats of survey of the lands described below in the BLM Idaho State Office, Boise, Idaho, effective 9:00 a.m., on the dates specified.

FOR FURTHER INFORMATION CONTACT: Bureau of Land Management, 1387 South Vinnell Way, Boise, Idaho 83709-1657.

SUPPLEMENTARY INFORMATION: These surveys were executed at the request of the Bureau of Land Management to meet their administrative needs. The lands surveyed are:

The plat representing the dependent resurvey of portions of the south boundary and subdivisional lines, and the subdivision of section 35, T., 11 N., R., 5 W., of the Boise Meridian, Idaho, Group Number 1362, was accepted June 5, 2013.

The plat representing the entire survey record of the dependent resurvey of a portion of the subdivisional lines, and the subdivision of section 34, T., 2 N., R., 17 E., of the Boise Meridian, Idaho, Group Number 1384, was accepted June 14, 2013.

The plat representing the entire survey record of the dependent resurvey of a portion of the west boundary and subdivisional lines, and the subdivision of section 7, and a metes-and-bounds survey in section 7, T., 7 S., R. 35 E., of the Boise Meridian, Idaho, Group Number 1312, was accepted June 24, 2013.

The plat representing the dependent resurvey of portions of the east boundary, subdivisional lines, and boundaries of certain mineral surveys, and the subdivision of sections 26 and 27, T., 48 N., R. 5 E., of the Boise Meridian, Idaho, Group Number 1275, was accepted June 28, 2013.

This survey was executed at the request of the Bureau of Indian Affairs to meet their administrative needs. The lands surveyed are:

The plat representing the dependent resurvey of portions of the east and north boundaries, subdivisional lines, and subdivision of section 3, and the additional subdivision of section 3, and the subdivision of sections 9 and 12, T. 34 N., R. 2 W., Boise Meridian, Idaho, Group Number 1353, was accepted May 9, 2013.

This survey was executed at the request of the Bureau of Reclamation to meet their administrative needs. The lands surveyed are:

The plat representing the dependent resurvey of portions of the subdivisional lines and the subdivision of sections 3, 4, 10, and 11, and the further subdivision of section 4, and metes-and-bounds surveys in sections 3, 4, 10, and 11, T. 2 N., R. 3 E., of the Boise Meridian, Idaho, Group Number 1366, was accepted May 29, 2013.

This survey was executed at the request of the USDA Forest Service to meet their administrative needs. The lands surveyed are:

The field notes representing the remonumentation of certain mile posts and angle points along the boundary between the states of Idaho and Montana, T. 27 N., Rs. 21 and 22 E., Boise Meridian, Idaho, Group Number 1500, was approved June 19, 2013.

Dated: July 10, 2013.
Stanley G. French,
Chief Cadastral Surveyor for Idaho.

[FR Doc. 2013-18239 Filed 7-29-13; 8:45 am]

BILLING CODE 4310-GG-P